DEPARTMENT OF HOMELAND SECURITY

Coast Guard

33 CFR Part 165

[Docket No. USCG-2025-0570]

Safety Zones; Recurring Safety Zones in Captain of the Port Northern Great Lakes Zone

AGENCY: Coast Guard, DHS.

ACTION: Notification of enforcement of regulation.

SUMMARY: The Coast Guard will enforce various safety zones for maritime events in the Captain of the Port Northern Great Lakes zone. Enforcement of these safety zones is necessary to protect the safety of life and property on the navigable waters immediately prior to, during, and immediately after these events. During each enforcement period, the Coast Guard will enforce restrictions upon, and control movement of, vessels in the specified areas immediately prior to, during, and immediately after events. During each enforcement period, no person or vessel may enter the respective safety zone without permission of the Captain of the Port Northern Great Lakes or his designated representative.

DATES: The regulations in 33 CFR 165.918 will be enforced for the safety zones for the events on the dates and times specified in the SUPPLEMENTARY INFORMATION section below.

FOR FURTHER INFORMATION CONTACT: If you have questions about this publication, call or email Waterways Management division, LT Rebecca Simpson, Coast Guard Sector Northern Great Lakes, U.S. Coast Guard; telephone 906-635-3223, email ssmprevention@uscg.mil.

SUPPLEMENTARY INFORMATION: The Coast Guard will enforce the safety zones listed in 33 CFR 165.918, Table 165.918, at the following dates and times for the following events:

Canada Day Celebration Fireworks, Sault Sainte Marie, MI: The safety zone listed in Table 165.918, event (7), will be enforced from 10 p.m. through 11 p.m. on July 1, 2025.

Marquette Fourth of July Celebration Fireworks, Marquette, MI: The safety zone listed in Table 165.918, event (8), will be enforced from 10 p.m. through 10:30 p.m. on July 3, 2025. In the case of inclement weather on July 3, 2025, this safety zone will be enforced from 10 p.m. through 10:30 p.m. on July 4, 2025.

Munising Fourth of July Celebration Fireworks, Munising, MI: The safety zone listed in Table 165.918, event (9), will be enforced from 7 p.m. through 11:45 p.m. on July 4, 2025.

Sault Sainte Marie Fourth of July Celebration Fireworks, Sault Sainte Marie, MI: The safety zone listed in Table 165.918, event (10), will be enforced from 10 p.m. through 10:30 p.m. on July 4, 2025. In the case of inclement weather on July 4, 2025, this safety zone will be enforced from 10 p.m. through 10:30 p.m. on July 5, 2025.

Mackinac Island Fourth of July Celebration Fireworks, Mackinac Island, MI: The safety zone listed in Table 165.918, event (11), will be enforced from 9:30 p.m. through 11 p.m. on July 4, 2025. In the case of inclement weather on July 4, 2025, this safety zone will be enforced from 10 p.m. through 10:30 p.m. on July 5, 2025.

Harbor Springs Fourth of July Celebration Fireworks, Harbor Springs, MI: The safety zone listed in Table 165.918, event (12), will be enforced from 10 p.m. through 11 p.m. on July 4, 2025. In the case of inclement weather on July 4, 2025, this safety zone will be enforced from 10 p.m. through 10:30 p.m. on July 5, 2025.

Bay Harbor Yacht Club Fourth of July Celebration Fireworks, Petoskey, MI: The safety zone listed in Table 165.918, event (13), will be enforced from 10 p.m. through 11:30 p.m. on July 3, 2025.

Petoskey Fourth of July Celebration Fireworks, Petoskey, MI: The safety zone listed in Table 165.918, event (14), will be enforced from 10 p.m. through 11 p.m. on July 4, 2025.

Boyne City Fourth of July Celebration Fireworks, Boyne City, MI: The safety zone listed in Table 165.918, event (15), will be enforced from 09:30 p.m. through 11 p.m. on July 4, 2025.

Alpena Fourth of July Celebration Fireworks, Alpena, MI: The safety zone listed in Table 165.918, event (16), will be enforced from 10 p.m. through 11 p.m.

Traverse City Fourth of July Celebration Fireworks, Traverse City, MI: The safety zone listed in Table 165.918, event (17), will be enforced from 10 p.m. through 11 p.m. on July 4, 2025. In the case of inclement weather on July 4, 2025, this safety zone will be enforced from 10 p.m. through 10:30 p.m. on July 5, 2025.

Charlevoix Venetian Festival Friday Night Fireworks, Charlevoix, MI: The safety zone listed in Table 165.918, event (18), will be enforced from 10 p.m. through 10:30 p.m. on July 25, 2025.

Charlevoix Venetian Saturday Night Fireworks, Charlevoix, MI: The safety zone listed in Table 165.918, event (19), will be enforced from 10 p.m. through 10:30 p.m. on July 26, 2025.

Elk Rapids Harbor Days Fireworks, Elk Rapids, MI: The safety zone listed in Table 165.918, event (20), will be enforced from 10 p.m. through 10:30 p.m. on August 2, 2025.

Nautical City Fireworks, Rogers City, MI: The safety zone listed in Table 165.918, event (21), will be enforced from 10 p.m. through 10:30 p.m. on August 3, 2025.

The locations for these events are in Table 165.918. Under the provisions of § 165.918, entry into, transiting, or anchoring within any of the safety zones is prohibited unless authorized by the Captain of the Port Northern Great Lakes or his designated representative. Vessels that wish to transit through the safety zones may request permission from the Captain of the Port Northern Great Lakes or his designated representative. Requests must be made in advance and approved by the Captain of Port Northern Great Lakes before transits will be authorized. Approval will be granted on a case-by-case basis. The Captain of the Port Northern Great Lakes may be contacted via U.S. Coast Guard Sector Northern Great Lakes on channel 16, VHF-FM or by calling (906) 635-3236. The Coast Guard will give notice to the public via VHF radio broadcasts that the regulation is in effect.

This notice of enforcement is issued under authority of 33 CFR 165.918 and 5 U.S.C. 552(a). If the Captain of the Port Northern Great Lakes determines that any of these safety zones need not be enforced for the full duration stated in this notice, he may suspend such enforcement and notify the public of the suspension via a Broadcast Notice to Mariners.

Dated: June 27, 2025.
J.R. Bendle,
Captain, U.S. Coast Guard, Captain of the Port Sector Northern Great Lakes.

[FR Doc. 2025-12335 Filed 7-1-25; 8:45 am]

BILLING CODE 9110-04-P